ENVIRONMENTAL PROTECTION AGENCY

40 CFR Part 60 and 63

[EPA-HQ-OAR-2010-0505; FRL-9481-8]

RIN 2060-AP76

Oil and Natural Gas Sector: New Source Performance Standards and National Emission Standards for Hazardous Air Pollutants Reviews; Correction of Comment Period Closing Date

AGENCY: Environmental Protection Agency (EPA).

ACTION: Proposed rule; correction of public comment period closing date.

SUMMARY: The EPA is announcing that the period for providing public comments on the August 23, 2011, “Oil and Natural Gas Sector: New Source Performance Standards and National Emission Standards for Hazardous Air Pollutants Reviews,” closes on October 31, 2011. This notice does not address the requests the EPA has received for extending this period.

DATES: Comments. The public comment period for the proposed rules published on August 23, 2011 (76 FR 52738) closes on October 31, 2011.

ADDRESSES: Comments. Written comments on the proposed rules may be submitted to the EPA electronically, by mail, by facsimile or through hand delivery/courier. Please refer to the proposal for the addresses and detailed instructions.

Docket. Publicly available documents relevant to this action are available for public inspection either electronically in http://www.regulations.gov, or in hard copy at the EPA Docket Center, Room 3334, 1301 Constitution Avenue, NW., Washington, DC. The Public Reading Room is open from 8:30 a.m. to 4:30 p.m., Monday through Friday, excluding legal holidays. A reasonable fee may be charged for copying.

World Wide Web. The EPA Web site for this rulemaking is located at: http://www.epa.gov/airquality/oilandgas.html.

FOR FURTHER INFORMATION CONTACT: Mr. Bruce Moore, Fuels and Incineration Group (E143-05), Sector Policies and Programs Division, Office of Air Quality Planning and Standards, U.S. Environmental Protection Agency, Research Triangle Park, North Carolina 27711; Telephone number: (919) 541-5460; Fax number (919) 541-3470; E-mail address: moore.bruce@epa.gov.

SUPPLEMENTARY INFORMATION:

Comment Period

On August 23, 2011, the EPA published in the Federal Register the proposed rule, “Oil and Natural Gas Sector: New Source Performance Standards and National Emission standards for Hazardous Air pollutants Review.” In that notice, the EPA announced that all comments must be received by October 24, 2011. The EPA conducted three public hearings on this proposed rule, the last of which was held on September 29, 2011, in Arlington, Texas. See 76 FR 53371, August 26, 2011. Under section 307(d) of the CAA, the EPA must keep the record open for thirty days after completion of the hearings to provide an opportunity for submission of rebuttal and supplementary information. Accordingly, the public comment period will end on October 31, 2011, rather than on October 24, 2011, as originally published.

The EPA has also received numerous requests for extending the public comment period for this proposed rule. This notice only corrects the public comment period pursuant to section 307(d) of the CAA. This notice does not address the pending requests being considered for extending the public comment period.

How can I get copies of this document and other related information?

The EPA has established the official public docket No. EPA-HQ-OAR-2010-0505. The EPA has also developed Web sites for the proposed rulemaking at the addresses given above.

Dated: October 14, 2011.
Gina McCarthy,
Assistant Administrator for Air and Radiation.

[FR Doc. 2011-27237 Filed 10-19-11; 8:45 am]

BILLING CODE 6560-50-P